DEPARTMENT OF TRANSPORTATION

Federal Aviation Administration

Notice of Availability of the Final Environmental Assessment (EA) and Finding of No Significant Impact/Record of Decision (FONSI/ROD) for the Midfield Development Program at John Glenn Columbus International Airport (CMH), Columbus, Ohio

AGENCY: Federal Aviation Administration (FAA), DOT.

ACTION: Notice.

SUMMARY: The FAA is issuing this notice to advise the public that the FAA has prepared and approved (June 22, 2017) a FONSI/ROD based on the Final EA for the CMH Midfield Development Project. The Final EA was prepared in accordance with the National Environmental Policy Act (NEPA) of 1969, as amended, FAA Orders 1050.1F, “Environmental Impacts: Policies and Procedures” and 5050.4B, “NEPA Implementing Instructions for Airport Actions”.

DATES: This notice is applicable August 29, 2017.

FOR FURTHER INFORMATION CONTACT: Mr. Ernest Gubry, Environmental Protection Specialist, DET-606, Federal Aviation Administration, Detroit Airport District Office, 11677 South Wayne Road, Suite 107, Romulus, MI 48174. Telephone number: 734-229-2905. Copies of the FONSI/ROD and/or Final EA are available upon written request by contacting Mr. Ernest Gubry through the contact information above.

SUPPLEMENTARY INFORMATION: The Final EA evaluated the CMH Midfield Development Project. The purpose of the project is to provide sufficient parking capacity to meet current and forecast demand while maintaining an acceptable level of service; provide sufficient rental car capacity and facilities to meet current and forecast demand while maintaining an acceptable level of service; provide sufficient terminal capacity and improved level of service; increase the efficiency of the airfield and reduce airfield taxi time; maximize the use of airport land not needed for aeronautical development; and provide sufficient facilities for aircraft fueling to support current and forecast airport operations.

The Final EA identified and evaluated all reasonable alternatives. Numerous alternatives were considered but did not meet the purpose and need.

Based on the analysis in the Final EA, the FAA has determined that the proposed alternative will not result in significant impacts to resources identified in accordance with FAA Orders 1050.1F and 5050.4B. Therefore, an environmental impact statement will not be prepared.

Issued in Detroit, Michigan on August 18, 2017.
John L. Mayfield Jr.,
Manager, Detroit Airports District Office, FAA, Great Lakes Region.

[FR Doc. 2017-18330 Filed 8-28-17; 8:45 am]

BILLING CODE 4910-13-P